FEDERAL MEDIATION AND CONCILIATION SERVICE

Labor-Management Relations Information Collection Requests

AGENCY: Federal Mediation and Conciliation Service.

ACTION: Submission for OMB Review: Request for Comments.

SUMMARY: The Federal Mediation and Conciliation Service (FMCS) hereby announces the submission of the following public information collection requests (ICR) to the Office of Management and Budget (OMB) for review and approval in accordance with the Paperwork Reduction Act of 1995 (Pub. L. 104-13). The information collection requests are FMCS forms: Arbitrator's Report and Fee Statement (Agency Form R-19), Arbitrator's Personal Data Questionnaire (Agency Form R-22), and Request for Arbitration Services (Agency Form R-43). These information collection requests were assigned the OMB control numbers 3076-0001, 3076-0002, and 3076-0003. These information collections will be used to collect information to determine applicant suitability for the arbitration roster, to monitor the work of arbitrators, and to collect information that facilitates the processing of arbitration requests.

The OMB is particularly interested in comments that:

(1) Evaluate whether the proposed collection of information is necessary for the proper performance of the functions of the agency, including whether the information will have practical utility;

(2) Evaluates the accuracy of the agency's estimates of the burden of the proposed collection of information;

(3) Enhance the quality, utility, and clarity of the information to be collected; and

(4) Minimize the burden of the collections of information on those who are to respond, including the use of appropriate automated, electronic collection technologies or other forms of information technology.

Burden: FMCS receives approximately 150 responses per year to the Arbitrator's Personal Data Questionnaire (OMB No. 3076-001); 3,000 responses per year to the Arbitrator's Report and Fee Statement (OMB No. 3076-0003); and 16,000 responses per year to the Request for Arbitration Panel form (OMB No. 3076-0002).

Affected Entities: Individuals who apply for admission to the FMCS Roster of Arbitrators; arbitrators who render decisions under FMCS arbitration policies and procedures; and employers, labor unions, and their representatives who request arbitration services.

DATES: Comments must be submitted on or before August 19, 2011.

ADDRESSES: Submit written comments to: E-mail: oira_submissions@omb.eop.gov. Please include the FMCS form numbers, the information collection title, and the OMB control number in the subject line of the message. Comments may also be sent to fax number 202-395-5806 to the attention of Desk Officer for FMCS.

SUPPLEMENTARY INFORMATION: For additional information, see the related 60-day notice published in the Federal Register at Vol. 76 No. 93 on May 13, 2011.

Dated: July 15, 2011.
Jeannette Walters-Marquez,
Attorney Advisor.

[FR Doc. 2011-18306 Filed 7-19-11; 8:45 am]

BILLING CODE 6732-01-P